DEPARTMENT OF HOMELAND SECURITY

Office of the Secretary

Privacy Act of 1974; Retirement of a Department of Homeland Security Office of the Chief Human Capital Officer System of Records

AGENCY: Privacy Office, DHS.

ACTION: Notice to retire one Privacy Act system of records notice.

SUMMARY: In accordance with the Privacy Act of 1974 the Department of Homeland Security is giving notice that it proposes to retire Department of Homeland Security Office of the Chief Human Capital Officer—001 MAXHR ePerformance Management System of Records because the system is no longer collecting or maintaining records. Records associated with the information technology system have been transferred to the Office of Personnel Management using the Electronic Official Personnel Folder system. Employee performance file records are maintained by the Department and covered by Office of Personnel Management/Government—2 Employee Performance File System of Records.

DATES: These changes will take effect on December 23, 2009.

FOR FURTHER INFORMATION CONTACT: Mary Ellen Callahan (703-235-0780), Chief Privacy Officer, Department of Homeland Security, Washington, DC 20528.

SUPPLEMENTARY INFORMATION: Pursuant to the provisions of the Privacy Act of 1974, 5 U.S.C. 552a, and as part of its ongoing Privacy Act system of records notice management efforts, the Department of Homeland Security (DHS) is retiring DHS/Office of the Chief Human Capital Officer (OCHCO)—001 MAXHR ePerformance Management System of Records (71 FR 63329, October 30, 2006).

DHS is no longer collecting or maintaining records regarding the MAXHR e-performance management information technology system. Records associated with the information technology system have been transferred to the Office of Personnel Management using the Electronic Official Personnel Folder (eOPF) system. Employee performance file records are maintained by the Department and covered by Office of Personnel Management/Government—2 Employee Performance File System of Records (June 19, 2006, 71 FR 35347).

Eliminating this notice will have no adverse impacts on individuals, but will promote the overall streamlining and management of DHS Privacy Act record systems.

Dated: November 13, 2009.
Mary Ellen Callahan,
Chief Privacy Officer, Department of Homeland Security.

[FR Doc. E9-28004 Filed 11-20-09; 8:45 am]

BILLING CODE 9110-9B-P